DEPARTMENT OF LABOR

Employment and Training Administration

[TA-W-65,103]

Dan Draexlmaier Automotive North America, Duncan, SC; Notice of Termination of Investigation

Pursuant to Section 221 of the Trade Act of 1974, as amended, an investigation was initiated on February 4, 2009 in response to a petition filed on behalf of workers at Dan Draexlmaier Automotive North America, Duncan, South Carolina. The workers at the subject facility are engaged in program management, sales and logistics related to the production of interior systems for automobiles.

The petitioners have requested that the petition be withdrawn. Consequently, the investigation has been terminated.

Signed in Washington, DC, this 15th day of April 2009.
Richard Church,
Certifying Officer, Division of Trade Adjustment Assistance.

[FR Doc. E9-10868 Filed 5-8-09; 8:45 am]

BILLING CODE 4510-FN-P